DEPARTMENT OF HOMELAND SECURITY

Federal Emergency Management Agency

[FEMA-2006-0005]

RIN 1660-ZA14

NEPA Alternative Arrangements for Critical Physical Infrastructure in New Orleans

AGENCY: Federal Emergency Management Agency (FEMA), Department of Homeland Security.

ACTION: Notice.

SUMMARY: The Department of Homeland Security (DHS) and the Council on Environmental Quality (CEQ) have established Alternative Arrangements to meet the requirements of the National Environmental Policy Act (NEPA) and the CEQ Regulations for Implementing the Procedural Requirements of NEPA (CEQ Regulations) for FEMA Grants to Reconstruct Critical Infrastructure in the New Orleans Metropolitan Area. These Alternative Arrangements are designed to enable timely action on the expected large number of grant applications to restore safe and healthful living conditions in the New Orleans Metropolitan Area (NOMA). These alternative arrangements will enable FEMA, as a component of DHS, to consider the potential for significant impacts to the human environment from its approval to fund the reconstruction of critical physical infrastructure in NOMA through its grant programs.

DATES: Comments due on or before May 22, 2006.

ADDRESSES: You may submit comments, identified by Docket Number FEMA-2006-0005, by one of the following methods:

Federal eRulemaking Portal: http://www.regulations.gov. Follow the instructions for submitting comments.

E-mail: FEMA-RULES@dhs.gov. Include Docket Number FEMA-2006-0005 in the subject line of the message.

Fax: 202-646-4536.

Mail/Hand Delivery/Courier: Rules Docket Clerk, Office of General Counsel, Federal Emergency Management Agency, Room 406, 500 C Street, SW., Washington, DC 20472.

Instructions: All Submissions received must include the agency name and docket number (if available). Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to the Federal eRulemaking Portal at http://www.regulations.gov. Submitted comments may also be inspected at FEMA, Office of General Counsel, 500 C Street, SW., Room 406, Washington, DC 20472.

FOR FURTHER INFORMATION CONTACT: Brent Paul, Environmental Officer, Federal Emergency Management Agency, 500 C Street SW., Washington, DC 20472, or phone (202) 646-3032.

SUPPLEMENTARY INFORMATION:

1. What are NEPA Alternative Arrangements?

NEPA Alternative Arrangements are a set of procedures, established in consultation with CEQ, for complying with the requirements of the National Environmental Policy Act and CEQ regulations when emergency circumstances require taking actions with significant environmental impacts and there is not sufficient time to follow the regular Environmental Impact Statement process. These arrangements are limited to actions necessary to control the immediate impacts of the emergency. CEQ and DHS arrived at these alternative arrangements in accordance with 40 CFR 1506.11 on December 6, 2005.

2. What is the nature of the emergency?

Damages to the critical physical infrastructure in the New Orleans Metropolitan Area (NOMA) from the impact of Hurricanes Katrina and Rita have rendered parts of the city inoperable and uninhabitable. Without the restoration of this critical infrastructure the city cannot adequately support a safe and healthy reconstruction and repopulation process.

FEMA expects a large number of grant applications which would overwhelm the available personnel and resources to assess each application in an Environmental Impact Statement (EIS). Review and approval of these applications must be accomplished in an expeditious manner to provide safe and healthy conditions for the reconstruction and repopulation of NOMA and will be required in a timeframe that does not allow available staff and resources to complete the EIS process and to issue the individual Record of Decision (ROD).

3. What authority exists for these Alternative Arrangements?

These Alternative Arrangements were prepared pursuant to CEQ regulations at 40 CFR 1506.11 and FEMA regulations at 44 CFR 10.13.

4. What types of critical physical infrastructure actions fall under these Alternative Arrangements?

Grant applications for the reconstruction of the following categories of critical physical infrastructure would be included under these Alternative Arrangements:

• Hospitals and health care facilities.

• Utilities and Wastewater Treatment Plants.

• Permanent police and fire stations.

• Government and court administration buildings.

• Detention Centers (jailhouses).

• Permanent schools.

FEMA is developing a description for each category which it will post on the Web site established per the alternative arrangements (http://www.fema.gov/ehp/noma). This description will provide criteria for determining whether a grant for a specific proposed project falls within an identified critical infrastructure category and is subject to the alternative arrangements. The description will also describe mitigation measures that will be available to reduce environmental impacts including any impacts to properties eligible for listing or listed on the National Register of Historic Places.

5. Who was consulted during the preparation of these Alternative Arrangements?

The Department of Homeland Security and the White House Council on Environmental Quality were heavily involved in the preparation of these Alternative Arrangements to ensure that they were necessary to control the immediate impacts of the emergency. This notice provides the process for engaging other potentially interested parties.

6. How does FEMA plan to consult and involve affected disaster victims, communities, and local governments?

FEMA will continue to provide opportunities for stakeholders to become involved in the environmental review process through its regular outreach mechanisms including meetings sponsored by the Long Term Community Recovery Emergency Support Function and Public Assistance meetings with applicants and local officials. Other mechanisms provide special efforts to involve NOMA residents that may have temporarily relocated outside of NOMA, these mechanisms include the development of a FEMA Internet page with environmental related information specific to the proposed actions in NOMA (http://www.fema.gov/ehp/noma), and linking to other public involvement forums such as State, parish, local group, and committee hearings, and outreach through various groups like faith-based organizations.

7. How can affected disaster victims and the general public submit comments to FEMA on these NEPA Alternative Arrangements?

The general public and disaster victims can submit comments regarding this procedure through one of the following methods:

Federal eRulemaking Portal: http://www.regulations.gov. Follow the instructions for submitting comments.

E-mail: FEMA-RULES@dhs.gov. Include Docket Number FEMA-2006-0005 in the subject line of the message.

Fax: 202-646-4536.

Mail/Hand Delivery/Courier: Rules Docket Clerk, Office of General Counsel, Federal Emergency Management Agency, Room 406, 500 C Street, SW., Washington, DC 20472.

The general public should submit comments on the content of the website and project specific information to FEMA-NOMA@dhs.gov.

8. Why are NEPA Alternative Arrangements needed for the FEMA-funded reconstruction of critical infrastructure in NOMA?

The NEPA Alternative Arrangements have been developed for the New Orleans Metropolitan Area because it was a unique situation where the sensitivity of the area, the level of devastation, and the density of reconstruction that will be addressed through FEMA grants warranted the agency to consider all FEMA funding of projects rather than environmentally assessing the impacts of each grant application individually. The combined effects of these numerous actions are highly uncertain, may involve unknown risks, and are expected to result in cumulatively significant environmental impacts.

FEMA believes that actions in this small geographic area by one applicant could likely result in an extensive land use change which may be incompatible with existing or planned land use of the surrounding area. In addition, the wind and flood damage from Hurricane Katrina in NOMA was concentrated in largely low-income and minority communities. As a result, reconstruction of the critical infrastructure in these areas and its related environmental effects (i.e. land-use changes, air quality impacts of construction activities, air quality impacts of traffic patterns, water quality impacts, etc.) may disproportionately impact these communities.

NOMA contains numerous historic properties, many of which are listed or eligible to be listed in the National Register of Historic Places. These historic properties may be adversely impacted by the reconstruction activities.

FEMA also believes that the accumulated effects of FEMA-funded reconstruction actions together with other local, State, and Federal planned actions for the New Orleans Metropolitan Area may result in significant environmental impacts.

9. Will these Alternative Arrangements circumvent the basic concepts of NEPA?

The Alternative Arrangements cannot circumvent the National Environmental Policy Act because they are imbedded in the procedures established to comply with the Act. The intent of these arrangements is to implement the basic principles of NEPA as reflected in the CEQ regulations implementing the NEPA section 102(C) requirement for a detailed statement to the extent practical in the time available. The arrangements will provide expedited but effective fulfillment of the public involvement, consideration of alternatives, impacts analyses, and informed decision making objectives of NEPA. CEQ provided its letter concurring with these alternative arrangements on December 6, 2005.

10. Will alternatives to projects be considered under these Alternative Arrangements?

Non-federal applicants may include alternatives in their applications for funding for reconstruction of critical physical infrastructure in NOMA. These Alternative Arrangements allow for, but do not require, the submission or analysis of alternatives for individual projects. However, evaluation of alternatives, such as mitigation alternatives to meet other legal requirements like Floodplain Management and Wetlands Protection regulations or Executive Order 12898 on Environmental Justice, will be considered in the context of the grant applications. For example, the evaluation of alternatives may also be used to assist in the identification of treatment measures for undertakings that may have adverse effects on properties that are eligible for or listed in the National Register of Historic Places.

The applicant may provide sector-specific Critical Infrastructure Facility Plans. This plan will provide the needs identified by the applicant for a particular sector and the development plan to meet those needs. These plans may have an evaluation of alternatives for the re-establishment of the sector's critical infrastructure.

11. What is the end date for these NEPA Alternative Arrangements?

The NEPA Alternative Arrangements are limited to actions necessary to control the immediate impacts of the emergency. The need for the Alternative Arrangements will continue to exist as long as necessary to process grant applications for the reconstruction of critical infrastructure in NOMA. While there is no clear end date, grant applications are expected to arrive as local, regional, State, and interstate planning efforts conclude. For NOMA, the response time from the receipt of the grant application, to action on the application, and implementation or execution dates of approved grant applications is further limited by public health and safety concerns. It is urgent to restore the critical infrastructure needed to protect the health and safety of the public in the New Orleans Metropolitan Area.

12. How are these NEPA Alternative Arrangements reviewed?

DHS and CEQ will review these Alternative Arrangements on a quarterly basis to assess their effectiveness and longevity. This review will include a review of significant comments received during the previous quarter. The review will be made available to the public through the Web site prepared for the Alternative Arrangements (www.fema.gov/ehp/noma).

13. How is FEMA ensuring that projects comply with other Federal environmental and historic preservation laws?

Projects that are subject to the NEPA Alternative Arrangements must comply with other environmental and historic preservation laws and executive orders. Thus, projects subject to the Alternative Arrangements will still be reviewed to ensure compliance with relevant environmental and historic preservation laws and executive orders. The results of this review will be made available to the public through the web site.

The Department of Homeland Security and CEQ have established Alternative Arrangements to meet the requirements of NEPA and the CEQ Regulations for Implementing the Procedural Requirements of NEPA for FEMA Grants to Reconstruct Critical Infrastructure in the New Orleans Metropolitan Area. These Alternative Arrangements are designed to enable timely action on the expected large number of grant applications to restore safe and healthful living conditions in the New Orleans Metropolitan Area. These alternative arrangements will enable FEMA to consider the potential for significant impacts to the human environment from its approval to fund the reconstruction of critical physical infrastructure in NOMA through its grant programs.

The Alternative Arrangements to Meet National Environmental Policy Act Requirements for the Reconstruction of New Orleans Metropolitan Area Critical Infrastructure Funded by Federal Emergency Management Agency Grant Programs follows: Alternative Arrangements to Meet National Environmental Policy Act Requirements for the Reconstruction of New Orleans Metropolitan Area Critical Infrastructure Funded by Federal Emergency Management Agency Grant Programs

I. Scope of the Emergency

Hurricanes Katrina and Rita caused sufficient damage in parts of the State of Louisiana to trigger Presidential disaster declarations for these areas. Damage was so severe and wide spread that the impact of Hurricane Katrina was also designated as the first catastrophic incident of national significance under the National Response Plan. Disaster-related damages to the critical physical infrastructure in the New Orleans Metropolitan Area (NOMA) have rendered parts of the city inoperable and uninhabitable. Without this critical infrastructure the city cannot adequately support a safe and healthful reconstruction and repopulation process.

The Department of Homeland Security's Federal Emergency Management Agency (FEMA) expects numerous grant applications requiring agency action in a timeframe ¹ that would not allow for completion of an Environmental Impact Statement (EIS) and a Record of Decision (ROD). This constitutes an emergency situation.

¹ This limited timeframe is the time from the receipt of the grant application to the approval and execution of the proposed action.

The Department of Homeland Security and the Council on Environmental Quality (CEQ) established these alternative arrangements to enable timely action on grant applications to restore safe and healthful living conditions in NOMA while observing the requirements and objectives of the National Environmental Policy Act (NEPA). These alternative arrangements will enable FEMA to consider the potential for significant impacts to the human environment from its funding the reconstruction of critical physical infrastructure in NOMA through its grant programs. These alternative arrangements have been developed in consultation with CEQ pursuant to NEPA regulations found in 40 CFR 1506.11 and 44 CFR 10.13.

II. Actions Needed to Control the Immediate Impacts of the Emergency

FEMA currently administers grant programs to fund the repair, restoration, and replacement of eligible infrastructure that has been damaged or destroyed in areas that have been included in a Presidential disaster declaration. Although the restoration of eligible infrastructure substantially to its pre-disaster conditions is excluded from NEPA by section 316 of the Robert T. Stafford Disaster Relief and Emergency Assistance Act (42 U.S.C. 5159) FEMA anticipates that the applications from the State of Louisiana for NOMA will more strongly reflect future demands than returning to pre-disaster conditions. Proposed projects will not necessarily be the same size, nature, or location; will use current building codes, and construction methods; and take advantage of current community and urban planning principles, and hazard mitigation opportunities. In such situations NEPA does apply. The following types of critical physical infrastructure ² projects in NOMA that may qualify for FEMA grant funding are addressed by these alternate arrangements:

² While levees are considered critical infrastructure, their restoration is not an eligible FEMA activity because they fall under the purview of the U.S. Army Corps of Engineers.

• Hospitals and health care facilities.

• Utilities and Wastewater Treatment Plants.

• Permanent police and fire stations.

• Government and court administration buildings.

• Detention Centers (jailhouses).

• Permanent schools.

III. Potential Significant Effects of the Proposed Action

Both the Department of Homeland Security and FEMA consider this a unique situation where the sensitivity of the area and the level of devastation and the density of reconstruction warrant the agency to consider the FEMA funded projects together rather than individually. The combined effects of these numerous actions are highly uncertain and may involve unknown risks. However, FEMA believes the following factors that could trigger the need for an EIS may be present:

• Actions will likely result in an extensive change in land use;

• Actions could result in a land use change which is incompatible with existing or planned land use of the surrounding area;

• Many people, including low income and minority communities, will be affected by these actions;

• The environmental impacts of these actions will likely be controversial;

• Actions could adversely affect a significant amount of properties listed or eligible to be listed in the National Register of Historic Places; and

• Actions are likely to be either a part of or closely related to other actions underway or planned for NOMA and the cumulative nature of these projects could cause significant environmental impacts.

IV. Components of the NEPA Process that Add Value and Will Be Used

a. Public Involvement

FEMA will continue to provide opportunities for stakeholders to become involved in the environmental review process through regular outreach mechanisms. An example of these mechanisms is meetings with the applicant and local officials to explain the Public Assistance Program requirements, including those environmental and historic preservation compliance requirements and related environmental, social, economic, cultural, and historic consequences. Other existing venues for the involvement of stakeholders will be identified and utilized to the extent practical. Public input will be used to further develop appropriate outreach mechanisms best suited to assist in assessing the potential for impact to the human environment from the reconstruction of critical physical infrastructure projects required to restore safe and healthful conditions for the repopulation of NOMA.

Special effort will be taken to involve the general public and NOMA residents, including those that have temporarily relocated outside of NOMA. FEMA will develop an internet page for environmentally related public notices and environmentally related information specific to the proposed actions in NOMA. This page would also track other projects in NOMA in order to provide the public with information on the individual and the cumulative nature of impacts of the FEMA funded actions. Efforts would be made to link to other public involvement forums such as State, parish, local group, and committee hearings and make this information available via electronic and non-electronic modes of outreach to assure availability to all those potentially affected.

For each project type, such as those identified above, FEMA will develop public involvement strategies that take into consideration the nature of that project type and the likely stakeholders that would have an interest in or be affected by those projects. Such strategies will include addressing national, State and local media, notifying groups linked to the various types of infrastructure, involving various civic, ethic, and religious groups, etc. When an action also requires public involvement to satisfy requirements under other Federal laws, regulations, or Executive Orders, including the National Historic Preservation Act and Executive Order 11988, Floodplains, FEMA will work to integrate those public involvement requirements into the alternate arrangements public involvement process.

b. Alternatives and Mitigation Measures

FEMA has developed the list of types of critical infrastructure projects (section II) that would be addressed by these alternative arrangements when applications are received from the State of Louisiana. Grant applications are project specific and provide the proposed sites or alternative sites. Potential alternatives also include whether to approve or condition the grant.

FEMA will establish criteria that will be followed for each type of critical physical infrastructure reconstruction project to mitigate or avoid significant environmental impacts whenever possible. Public input and consultation with the appropriate Federal, tribal, and State resource agencies will be used to help identify appropriate measures to minimize the potential for adverse environmental impacts associated with the reconstruction of each type of critical infrastructure. As these environmental impact evaluations are completed and mitigation measures are developed, FEMA will post available and relevant documents on the internet site and make copies available to interested groups and members of the public upon request.

Given the urgency of the reconstruction effort, it is likely that some environmental impact analyses will need to proceed with incomplete or unavailable information. When information on the environmental effects of a type of critical physical infrastructure reconstruction is limited by incomplete or unavailable information, FEMA will use the direction in the Council on Environmental Quality regulations at 40 CFR 1502.22.

c. Environmental (including related social, cultural, historic, and economic) Impacts and Incorporation of Other Environmental/Historic Preservation Documentation and Processes

FEMA will post on the internet site prepared for NOMA and use the public outreach described above to provide the projects and associated environmental reviews. This will allow the public and environmental reviewers an opportunity to track all the projects and associated impacts in a given area in NOMA.

FEMA will refer to and incorporate other available environmental and planning documents and data prepared for the NOMA area that provide useful information. The agency also intends to incorporate and utilize, to the extent feasible and practical, the environmental documentation or information prepared or gathered by other agencies before this event and those that will be prepared during the reconstruction and rebuilding efforts in NOMA. Examples of documents incorporated by reference include:

• New Orleans International Airport EIS.

• New Orleans Regional Transit Authority EIS for city's streetcar system.

• East-West Corridor Environmental Impact Study.

• New Orleans Riverfront Redevelopment Master Plan.

FEMA will also document and incorporate its ongoing consultation efforts with other regulatory and environmental agencies including the State Historic Preservation Offices and the Advisory Council on Historic Preservation.

V. Duration of the Emergency

The emergency identified above started at the moment of the Presidential disaster declaration and will continue until critical infrastructure in NOMA that is immediately necessary to protect the health and safety of the public is fully restored. Although the submission of some project applications may be contingent upon the occurrence of an independent event (i.e. reconstruction of levees, development of local plans, etc.), the need for the alternative arrangements would continue to exist so long as the amount of time (from the submission of the application to the date agency action on the application is necessary to allow timely implementation or execution of the action) is limited. FEMA and DHS will review these alternative arrangements with the Council on Environmental Quality on a quarterly basis to assess their effectiveness and longevity.

VI. Documentation

Documentation of the analysis of the proposed actions on grant applications and the potential for significant impacts to the human environment will consist of these alternative arrangements and the evolving website and available documents incorporated by reference, with updates as new information becomes available, and the posting of agency actions (receiving, approving, conditioning, or denying) on critical infrastructure grant applications as well as notices of other actions being taking in the NOMA.

Dated: March 20, 2006.
David Paulison,
Acting Director, Federal Emergency Management Agency, Department of Homeland Security.

[FR Doc. E6-4191 Filed 3-22-06; 8:45 am]

BILLING CODE 9110-41-P